DEPARTMENT OF HOMELAND SECURITY

Coast Guard

[Docket No. USCG-2015-0197]

Cooperative Research and Development Agreement: Unmanned Aircraft System Demonstration for Support of Coast Guard Missions in the Arctic

AGENCY: Coast Guard, DHS.

ACTION: Notice of intent; request for comments.

SUMMARY: The Coast Guard announces its intent to enter into a Cooperative Research and Development Agreement (CRADA) with Conoco Phillips Company (COP) to evaluate unmanned aircraft system (UAS) capabilities, benefits, risks and technical limitations of operating UAS from land and/or off a Coast Guard Cutter in a maritime environment. The Coast Guard will conduct flight testing and evaluation of UASs under a wide variety of simulated but realistic and relevant real-world maritime operational scenarios, such as ice operations, marine environmental monitoring, marine safety, search and rescue, and potentially other Coast Guard mission sets. While the Coast Guard is currently considering partnering with COP, the agency solicits public comment on the possible nature of and participation of other parties in the proposed CRADA. In addition, the Coast Guard also invites other potential non-Federal participants, who have the interest and capability to bring similar contributions to this type of research, to consider submitting proposals for consideration for similar CRADAs.

DATES: Comments must be submitted to the online docket via http://www.regulations.gov, or reach the Docket Management Facility, on or before April 20, 2015.

Synopses of proposals regarding future CRADAs must reach the Coast Guard (see FOR FURTHER INFORMATION CONTACT) on or before April 27, 2015.

ADDRESSES: Submit comments using one of the listed methods, and see SUPPLEMENTAL INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: If you have questions on this notice or wish to submit proposals for future CRADAs, contact LT Keely Higbie, Project Official, Surface Branch, U.S. Coast Guard Research and Development Center (RDC), 1 Chelsea Street, New London, CT 06320, telephone 860-271-2815, email Keely.J.Higbie@uscg.mil. If you have questions on viewing or submitting material to the docket, call Cheryl Collins, Program Manager, Docket Operations, telephone 202-366-9826, toll free 1-800-647-5527.

SUPPLEMENTARY INFORMATION:

Public Participation and Request for Comments

We encourage you to submit comments and related material on this notice. All comments received will be posted, without change, to http://www.regulations.gov and will include any personal information you have provided.

Do not submit detailed proposals for future CRADAs to the Docket Management Facility. Instead, submit them directly to the Coast Guard (see FOR FURTHER INFORMATION CONTACT).

Comments should be marked with docket number USCG-2015-0197 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with other types of agreements such as procurement contracts, grants, and cooperative agreements.

Under the proposed CRADA, the Coast Guard would collaborate with one non-Federal participant. Together, the RDC and the non-Federal participant would identify and investigate the potential of the UAS to contribute to the Coast Guard's mission effectiveness and determine the utility of the UAS to support Coast Guard operations and assets at sea.

The RDC, with the non-Federal participant, will develop a demonstration test plan and evaluate the UAS using quantitative and qualitative measures under a wide variety of simulated but realistic and relevant real-world maritime operational scenarios The demonstration would be conducted both on land and/or on a cutter operating in an Arctic maritime environment over a period of approximately 14 days.

We anticipate that the Coast Guard's contributions under the proposed CRADA will include the following:

(1) Develop the demonstration test plan to be executed;

(2) Provide the cutter that the system will be installed on;

(3) Determine the electromagnetic compatibility of the system on the cutter to determine if safe flight operations can be accomplished;

(4) Conduct a Privacy Threshold Analysis as required for the demonstration to be conducted;

(5) Conduct a Privacy Impact Assessment as required for the demonstration to be conducted;

(6) Coordinate spectrum approval for the system to be used

(7) Develop, route, and receive an “interim authority to test” approval, authorizing the installation of the system onboard the cutter;

(8) Develop the interface control document, engineering change proposal, and technical data package as required to install the system onboard the cutter;

(9) Coordinate and receive interim flight clearance for the demonstration to be executed;

(10) Provide airspace coordination and de-confliction for execution of the demonstration test plan;

(11) Develop the communications plan to be used for the demonstration;

(12) Analyze demonstration test plan data in accordance with the CRADA demonstration test plan; and

(13) Develop the demonstration final report, which will document the methodologies, findings, conclusions, and recommendations of this CRADA work.

We anticipate that the non-Federal participants' contributions under the proposed CRADA will include the following:

(1) Provide UAS equipment, including air vehicles, land based ground control stations, forward eyes for the cutter, and all other equipment required to conduct the demonstration as described in the demonstration test plan;

(2) Provide operators for UAS equipment;

(3) Provide UAS technical data;

(4) Provide shipping for all UAS equipment to and from the cutter and other appropriate locations to be used under the CRADA;

(5) Install and remove the system and all UAS equipment from the cutter;

(6) Provide an approved certificate of authorization from the Federal Aviation Administration for the UAS equipment; and

(7) Required travel, associated personnel, and other expenses.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering COP for participation in this CRADA. This consideration is based on the fact that COP has demonstrated its ability to operate UAS in an Arctic maritime environment, and its UAS's widespread use throughout the Department of Defense. However, we do not wish to exclude other viable participants from this or future similar CRADAs.

This is a technology demonstration effort. Since the goal of this CRADA is to identify and investigate the potential of the UAS to contribute to Coast Guard mission effectiveness in an Arctic maritime environment, non-Federal CRADA participants will not be excluded from any future Coast Guard procurements based solely on their participation in this CRADA. Special consideration will be given to small business firms/consortia, and preference will be given to business units located in the U.S.

This notice is issued under the authority of 5 U.S.C. 552(a).

Dated: March 20, 2015.
Captain Dennis C. Evans, USCG,
Commanding Officer, U.S. Coast Guard Research and Development Center.

[FR Doc. 2015-07848 Filed 4-3-15; 8:45 am]

BILLING CODE 9110-04-P